DEPARTMENT OF TRANSPORTATION

Federal Aviation Administration

Office of Commercial Space Transportation; Notice of Availability of the Final Environmental Impact Statement for the SpaceX Texas Launch Site

AGENCY: Federal Aviation Administration (FAA), Department of Transportation (DOT).

ACTION: Notice of Availability.

SUMMARY: In accordance with the National Environmental Policy Act of 1969, as amended (NEPA; 42 United States Code [U.S.C.] 4321 et seq.), Council on Environmental Quality NEPA implementing regulations (40 Code of Federal Regulations parts 1500 to 1508), and FAA Order 1050.1E, Change 1, the FAA, Office of Commercial Space Transportation is announcing the availability of the Final Environmental Impact Statement for the SpaceX Texas Launch Site (Final EIS). This Final EIS is also submitted pursuant to the following public law requirements: Section 4(f) of the Department of Transportation Act (49 U.S.C. Section 303); Section 106 of the National Historic Preservation Act (16 U.S.C. 470); Executive Order 11988, Floodplain Management; DOT Order 5650.2, Floodplain Management and Protection; Executive Order 11990, Protection of Wetlands; and DOT Order 5660.1A, Preservation of the Nation's Wetlands. This Final EIS includes the FAA's determination of de minimis impacts to Section 4(f) property under 23 CFR 771.135. The Proposed Action would include a significant encroachment on floodplains per DOT Order 5650.2, Floodplain Management and Protection.

The FAA submitted the Final EIS to the U.S. Environmental Protection Agency (EPA). The EPA will post a separate notification in the Federal Register announcing the availability of the Final EIS. The FAA will issue a Record of Decision no sooner than 30 days following EPA's notice in the Federal Register. The Record of Decision will be published in the Federal Register.

An electronic version of the Final EIS is available on the FAA Web site: http://www.faa.gov/about/office_org/headquarters_offices/ast/environmental/nepa_docs/review/documents_progress/spacex_texas_launch_site_environmental_impact_statement/. In addition, copies of the Final EIS were sent to persons and agencies on the distribution list (found in Chapter 11 of the Final EIS). A paper copy and an electronic version of the Final EIS may be reviewed during regular business hours at the following Brownsville, Texas, locations:

• Brownsville Public Library Main Branch, 2600 Central Blvd.

• Southmost Branch Library, 4320 Southmost Blvd.

• University of Texas at Brownsville, Oliveira Library, 80 Fort Brown St.

FOR FURTHER INFORMATION CONTACT: Ms. Stacey M. Zee, Environmental Specialist, Federal Aviation Administration, Office of Commercial Space Transportation, 800 Independence Avenue SW., Suite 325, Washington, DC 20591; email Stacey.Zee@faa.gov; or phone (202) 267-9305.

SUPPLEMENTARY INFORMATION: The Final EIS for the proposed Space Exploration Technologies Corp. (SpaceX) Texas Launch Site evaluates the potential environmental impacts that may result from the FAA Proposed Action of issuing launch licenses and/or experimental permits that would allow SpaceX to launch the Falcon 9, Falcon Heavy, and a variety of reusable suborbital launch vehicles from a launch site on privately owned property in Cameron County, Texas. SpaceX would be required to apply to the FAA for the appropriate launch licenses and/or experimental permits. Under the Proposed Action, which is the Preferred Alternative, SpaceX proposes to construct a vertical launch area and a control center area to support up to 12 commercial launch operations per year with a maximum of two Falcon Heavy launches. Launch operations include not only launches, but also pre-flight activities such as mission rehearsals and static fire engine tests. The environmental analysis in the EIS focuses on proposed construction and operational activities associated with the FAA's Proposed Action (issuing launch licenses and/or experimental permits to SpaceX) and includes all related actions considered connected to the Proposed Action. Alternatives under consideration include the Proposed Action and the No Action Alternative. Under the No Action Alternative, the FAA would not issue licenses and/or experimental permits to SpaceX, and Space X would not construct the proposed control center and vertical launch areas.

As part of the Proposed Action, SpaceX plans to construct facilities, structures, and utility connections in order to support the launch of the Falcon 9 and Falcon Heavy launch vehicles. The facilities would be located in two areas: vertical launch area and control center area. The proposed vertical launch area site is currently undeveloped and is located directly adjacent to the eastern terminus of Texas State Highway 4 (Boca Chica Boulevard) and approximately 3 miles north of the Mexican border on the Gulf Coast. It is located approximately 5 miles south of Port Isabel and South Padre Island. At the vertical launch area, the new facilities required would include an integration and processing hangar, a launch pad and stand with its associated flame duct, a water tower, a retention basin for deluge water, propellant storage and handling areas, a workshop and office area, and a warehouse for parts storage.

The command and control functions for a launch are required to be conducted at a safe separation distance from the actual launch pad. The control center area would be located inland, approximately 2 miles west of the vertical launch area and would include control center buildings, payload processing facilities, a launch vehicle processing hangar, generators and diesel storage facilities, and a satellite fuels storage facility. All facilities would be constructed through private funding, on currently undeveloped private property that would be purchased or leased by SpaceX. New underground power lines would be installed in the State Highway 4 Right-of-Way from the control center area to the vertical launch area. In addition, existing power lines that lead to Boca Chica Village would need to be upgraded. During this upgrade, the lines that are currently underground would remain underground, and lines that are currently aboveground would remain above ground.

Operations would consist of up to 12 launch operations per year with a maximum of two Falcon Heavy launches. All Falcon 9 and Falcon Heavy launches would be expected to have commercial payloads, including satellites or experimental payloads. In addition to standard payloads, the Falcon 9 and Falcon Heavy may also carry a capsule, such as the SpaceX Dragon capsule. All launch trajectories would be to the east over the Gulf of Mexico.

The Final EIS evaluates the direct, indirect, and cumulative environmental effects of the Proposed Action and No Action Alternative on environmental impact categories, including compatible land use (including farmlands and coastal resources); Section 4(f) properties; noise; light emissions and visual impacts; historical, architectural, archaeological, and cultural resources; air quality; water resources (including wetlands, floodplains, surface waters, groundwater, and wild and scenic rivers); biological resources (fish, wildlife, and plants); hazardous materials, pollution prevention, and solid waste; socioeconomics, environmental justice, and children's environmental health risks and safety risks; energy supply and natural resources; and secondary (induced) impacts. Additional resources were also considered including airspace, health and safety, and ground traffic and transportation.

Issued in Washington, DC on May 27, 2014.
Daniel Murray,
Manager, Space Transportation Development Division.

[FR Doc. 2014-12985 Filed 6-5-14; 8:45 am]

BILLING CODE 4910-13-P